OVERSEAS PRIVATE INVESTMENT COPORATION

Submission of OMB Review; Comments Request

AGENCY: Overseas Private Investment Corporation (OPIC).

ACTION: Request for comments.

SUMMARY: Under the provisions of the Paperwork Reduction Act (44 U.S.C. Chapter 35), agencies are required to publish a Notice in the Federal Register notifying the public that the Agency has prepared an information collection request for OMB review and approval and has requested public review and comment on the submission. Comments are being solicited on the need for the information; the accuracy of the Agency's burden estimate; the quality, practical utility and clarity of the information to be collected; and on ways to minimize the reporting burden, including automated collection techniques and uses of other forms of technology. The proposed form under review, OPIC-241, (Enterprise Development Network (EDN) Loan/Insurance Originator Application Questionnaire) is summarized below.

DATES: This 30 calendar-day notice is to notify the public that this collection will be forwarded to OMB for approval in 30 days. No comments were received during the 60 calendar-days publication of this Notice.

ADDRESSES: Copies of the subject form and the request for review prepared for submission to OMB may be obtained from the Agency Submitting Officer. Comments on the form should now be submitted to: Office of Management and Budget, Docket Library, Room-10102, 725 17th Street, NW., Washington, DC 20408.

FOR FURTHER INFORMATION CONTACT: Agency Submitting Officer: Essie Bryant, Records Manager & Agency Clearance Officer, Overseas Private Investment Corporation, 1100 New York Avenue, NW., Washington, DC 20527; (202) 336-8563.

Summary of Form Under Review:

Type of Request: New Form.

Title: Enterprise Development Network (EDN) Loan/Insurance Originator Questionnaire.

Form Number: OPIC-241.

Frequency of Use: One per originator.

Type of Respondents: Business or other institutions; individuals.

Description of Affected Public: U.S. companies or citizens investing overseas.

Reporting Hours: 4 hours per originator.

Number of Responses: 100 per year.

Federal Cost: $22,000.

Authority for Information Collection: Section 231 and 234(b) and (c) of the Foreign Assistance Act of 1961, as amended.

Abstract (Needs and Uses): The OPIC 241 form is the principal document used by OPIC to determine the originator's eligibility for participation in OPIC's Enterprise Development Network, their involvement with the U.S. Government, and other information relevant to project origination.

Dated: November 14, 2007.
John Crowley, III,
Senior Administrative Counsel, Department of Legal Affairs.

[FR Doc. 07-5728 Filed 11-16-07; 8:45 am]

BILLING CODE 3210-07-M